INTERNATIONAL TRADE COMMISSION

[Investigation No. 731-TA-1526 (Final)]

Supplemental Schedule for the Final Phase of an Anti-Dumping Duty Investigation; Silicon Metal From Malaysia

AGENCY: United States International Trade Commission.

ACTION: Notice.

DATES: Effective June 24, 2021.

FOR FURTHER INFORMATION CONTACT: Nitin Joshi ((202) 708-1669), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective December 7, 2020, the Commission established a general schedule for the conduct of the final phase of its investigations on silicon metal from Bosnia and Herzegovina, Iceland, Kazakhstan, and Malaysia ¹ following a preliminary determination by the U.S. Department of Commerce (“Commerce”) that imports of silicon metal from Bosnia and Herzegovina and Iceland were being sold at less than fair value (“LTFV”) ² and that imports of silicon metal from Kazakhstan were subsidized by the government of Kazakhstan.³ Notice of the scheduling of the final phase of the Commission's investigations and of a public hearing to be held in connection therewith was given by posting copies of the notice in the Office of the Secretary, U.S. International Trade Commission, Washington, DC, and by publishing the notice in the Federal Register of December 30, 2020 (85 FR 86578). In light of the restrictions on access to the Commission building due to the COVID-19 pandemic, the Commission conducted its hearing through written testimony and video conference on February 22, 2021. All persons who requested the opportunity were permitted to participate.

¹ 85 FR 86578, December 30, 2020.

² 85 FR 80009, December 11, 2020.

³ 85 FR 78122, December 3, 2020.

The Commission subsequently issued its final determinations that an industry in the United States was materially injured by reason of imports of silicon metal provided for in subheading 2804.69.10 and 2804.69.50 of the Harmonized Tariff Schedule of the United States (“HTSUS”) from Bosnia and Herzegovina and Iceland that have been found by the Commerce to be sold in the United States at LTFV and by imports of silicon metal from Kazakhstan found to be subsidized by the government of Kazakhstan. Commerce has issued a final affirmative antidumping duty determination with respect to silicon metal from Malaysia.⁴ Accordingly, the Commission currently is issuing a supplemental schedule for its antidumping duty investigation on imports of silicon metal from Malaysia.

⁴ 86 FR 33224, June 24, 2021. The Commission investigations became staggered when Commerce postponed its final determination regarding LTFV imports of silicon metal from Malaysia. 86 FR 7701, February 1, 2021.

This supplemental schedule is as follows: The deadline for filing supplemental party comments on Commerce's final antidumping duty determination is July 8, 2021. Supplemental party comments may address only Commerce's final antidumping duty determination regarding imports of silicon metal from Malaysia. These supplemental final comments may not contain new factual information and may not exceed five (5) pages in length. The supplemental staff report in the final phase of this investigation regarding subject imports from Malaysia will be placed in the nonpublic record on July 19, 2021; and a public version will be issued thereafter.

For further information concerning this investigation see the Commission's notice cited above and the Commission's Rules of Practice and Procedure, part 201, subparts A and B (19 CFR part 201), and part 207, subparts A and C (19 CFR part 207).

Please note the Secretary's Office will accept only electronic filings during this time. Filings must be made through the Commission's Electronic Document Information System (EDIS, https://edis.usitc.gov.) No in-person paper-based filings or paper copies of any electronic filings will be accepted until further notice.

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: June 25, 2021.
Lisa Barton,
Secretary to the Commission.

[FR Doc. 2021-14000 Filed 6-29-21; 8:45 am]

BILLING CODE 7020-02-P